SECURITIES AND EXCHANGE COMMISSION

Sunshine Act Meeting

Notice is hereby given, pursuant to the provisions of the Government in the Sunshine Act, Public Law 94-409, that the Securities and Exchange Commission will hold an International Roundtable on Interactive Data for Public Financial Reporting Open Meeting on Tuesday, June 10, 2008, from 9:30 a.m. to 12 p.m.

The Roundtable will take place in the Auditorium of the Commission's headquarters at 100 F Street, NE., Washington, DC. The Roundtable will be open to the public with seating on a first-come, first-served basis. Doors will open at 8:30 a.m. Visitors will be subject to security checks.

Proposed topics to be discussed at the Roundtable include the experience in countries that have already adopted interactive data; the views of countries currently considering adopting interactive data; and the perspectives from analysts and users of financial information about how best to take advantage of the capabilities of interactive data.

For further information, please contact the Office of the Secretary at (202) 551-5400.

Dated: June 4, 2008.
Florence E. Harmon,
Acting Secretary.

[FR Doc. E8-12926 Filed 6-6-08; 8:45 am]

BILLING CODE 8010-01-P